DEPARTMENT OF STATE

[Delegation of Authority No. 405]

Delegation to the Assistant Secretary for Political-Military Affairs of Authority Under Section 1251 of the National Defense Authority Act for Fiscal Year 2016

By virtue of the authority vested in the Secretary of State, including section 1251 of the National Defense Authorization Act for Fiscal Year 2016 (Pub. L. 114-92) (NDAA) and section 1 of the State Department Basic Authorities Act, (22 U.S.C. 2651a), and delegated pursuant to Delegation of Authority 245-1, dated February 13, 2009, I hereby delegate to the Assistant Secretary for Political-Military Affairs, to the extent authorized by law, the authority to exercise the functions conferred on the Secretary of State regarding the determination of countries eligible for the provision of training pursuant to section 1251 of the NDAA.

Notwithstanding this delegation of authority, any function or authority delegated herein may be exercised by the Secretary, the Deputy Secretary, the Deputy Secretary for Management and Resources, or the Under Secretary for Arms Control and International Security. Any reference in this delegation of authority to any statute or delegation of authority shall be deemed to be a reference to such statute or delegation of authority as amended from time to time.

This delegation of authority shall be published in the Federal Register.

Dated: September 6, 2016.
Antony J Blinken,
Deputy Secretary of State.

[FR Doc. 2016-27351 Filed 11-10-16; 8:45 am]

BILLING CODE 4710-25-P